DEPARTMENT OF THE TREASURY

Agency Information Collection Activities; Submission for OMB Review; Comment Request; Signing Authority for Corporate and LLC Officials

AGENCY: Departmental Offices, U.S. Department of the Treasury.

ACTION: Notice.

SUMMARY: The Department of the Treasury will submit the following information collection request(s) to the Office of Management and Budget (OMB) for review and clearance in accordance with the Paperwork Reduction Act of 1995, on or after the date of publication of this notice. The public is invited to submit comments on the collection(s) listed below.

DATES: Comments should be received on or before July 31, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Alcohol and Tobacco Tax and Trade Bureau (TTB)

Title: Signing Authority for Corporate and LLC Officials.

OMB Control Number: 1513-0036.

Type of Review: Revision of a currently approved collection.

Abstract: Under the IRC at 26 U.S.C. 6061, any return, statement, or other document required to be made under the internal revenue laws or regulations “shall be signed in accordance with forms or regulations” prescribed by the Secretary of the Treasury. Issued under that section's authority, but not specifically required by the TTB regulations, corporations and limited liability companies (LLCs) use TTB F 5100.1 or its electronic equivalent to identify specific corporate or LLC officials or employees, by name or by position title, authorized by the entity's articles of incorporation, bylaws, or governing officials to act on behalf of, or sign documents for, the entity in TTB matters. This information collection is necessary to ensure that only duly authorized individuals sign documents submitted to TTB on behalf of corporations or LLCs.

Form: TTB F 5100.1 N/A, TTB F 5100.1.

Affected Public: Businesses or other for-profits.

Estimated Total Annual Burden Hours: 1,056.

Authority: 44 U.S.C. 3501 et seq.

Dated: June 23, 2017.
Jennifer P. Leonard,
Treasury PRA Clearance Officer.

[FR Doc. 2017-13594 Filed 6-29-17; 8:45 am]

BILLING CODE 4810-31-P